DEPARTMENT OF TRANSPORTATION

[Docket No. DOT-OST-2021-0056]

Request for Information on Transportation Equity Data

AGENCY: Office of the Secretary (OST), Department of Transportation (DOT).

ACTION: Request for information.

SUMMARY: On January 20, 2021, President Biden signed the Executive Order, “Advancing Racial Equity and Support for Underserved Communities Through the Federal Government” (Equity E.O.). Through the implementation of this Administration priority, the U.S. Department of Transportation (DOT or Department) will assess whether, and to what extent, its programs and policies perpetuate systemic barriers to opportunities and benefits for people of color and other underserved groups. These assessments will better equip the Department to develop policies and programs that deliver resources and benefits equitably to all. The Department solicits input from the public regarding available or potential data and assessment tools that could assist in the ongoing and continuous evaluation of Federal policies and programs concerning equitable services and safety in the transportation sector.

DATES: Comments are requested by June 24, 2021.

ADDRESSES: Comments should refer to the docket number above and submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/privacy.

Docket: For access to the docket to read background documents or comments received, go to http://www.regulations.gov or the street address listed above. Follow the online instructions for accessing the dockets.

FOR FURTHER INFORMATION CONTACT: For policy issues, please email TransportationDataEquity@dot.gov or contact Maya Sarna at 202-366-5811. Office hours are from 8 a.m. to 5 p.m. EDT, Monday through Friday, except for Federal holidays.

SUPPLEMENTARY INFORMATION: Through this Request for Information (RFI), the Department requests information on the data and assessment tools to measure transportation equity. Specifically, the Department seeks responses to the questions outlined below.

On January 20, 2021, President Biden signed Executive Order 13985 on Advancing Racial Equity and Support for Underserved Communities Through the Federal Government (Equity E.O.).¹ The Equity E.O. directs the Federal Government to pursue a comprehensive approach to advance equity, civil rights, racial justice, and equal opportunity to strengthen communities that have been historically underserved, marginalized, and adversely affected by persistent poverty and inequality.

¹ https://www.whitehouse.gov/briefing-room/presidential-actions/2021/01/20/executive-order-advancing-racial-equity-and-support-for-underserved-communities-through-the-federal-government/.

The Department is entrusted with maintaining and improving our Nation's transportation system. Equitable and safe access to transportation is a civil right. Transportation touches every part of American lives and makes the American Dream possible, getting people and goods to where they need to be, directly and indirectly creating good-paying jobs and helping improve quality of life, especially after the COVID-19 pandemic. However, misguided policies and missed opportunities can reinforce racial, ethnic, geographic, and disability disparities, dividing or isolating neighborhoods and undermining the government's essential role of empowering Americans to thrive.

The Department is committed to advancing equity, civil rights, racial justice, environmental justice, and equal opportunity and has the responsibility to ensure that all Americans have equitable access to safe, affordable, and sensible transportation options, no matter who they are or where they live. This means that all communities should have meaningful access to the Department's programs and activities.

The Equity E.O. defines the following terms noted under (a) and (b) below and hence are used as definitions for purposes of this RFI:

(a) The term “equity” means the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

(b) The term “underserved communities” refers to populations sharing a particular characteristic, as well as geographic communities, that have been systematically denied the full opportunity to participate in aspects of economic, social, and civic life, as exemplified by the list in the preceding definition of “equity.”

(c) Through this request, the Department seeks input, information, and recommendations in the field of transportation equity from stakeholders in public agencies, academic researchers involved in the study of equity in transportation decision-making, advocacy, and not-for-profit institutions and individuals working in the transportation sector or the field of equity, and State, local, Tribal, and territorial areas.

Questions to the Public

The Department seeks to gather information and identify valid and reliable aggregate data to help measure equity in order to improve Federal transportation programs. The following list of questions and topic areas are intended to guide the public in this effort:

Methods and Assessment Tools To Measure Equity

(1) What are feasible methods for the Department to assess equity in transportation, including whether, and to what extent, Departmental programs and policies perpetuate systemic barriers to opportunities and benefits for underserved communities?

(2) How should the Department assess equity in Federal funding distributions? What data sources would be required for such assessment? Do such data sources exist currently? What new data would need to be collected, whether formula, discretionary, or other funding?

(3) What assessment tools currently exist to analyze equity in transportation investments, policies, and programs? Can these tools be scaled to a national level? If so, please describe the nature and level of detail of the data and how the data are collected or retrieved. If possible, please discuss any privacy concerns or barriers for collection of these data.

(4) What assessment tools and best practices currently exist to analyze equity in state and metropolitan transportation planning processes?

(5) If the Department were to create transportation equity indices, that include important transportation and equity variables, what key indicators should they include? What is the suggested methodology and level of aggregation for this index? What is the appropriate geographic level? How could such measures be constructed to weigh the competing interests of different disadvantaged groups?

(6) Housing affordability in the United States is measured in terms of percentage of income (i.e., the current threshold is 30 percent of income). Is there a similar threshold for “transportation affordability” currently in use by planning practitioners and planning agencies? What are some methods and strategies that the Department can use for determining and assessing the level of a transportation overburden cost standard?

(7) How should the Department identify and measure the benefits and drawbacks (e.g., safety, wellbeing, and mobility benefits) of Federal transportation investments to underserved communities? How should the Department identify and measure the social cost of inequity in transportation projects or policies in underserved communities?

(8) Transportation plays a critical role in how people access what they need (e.g., jobs, school, healthcare) and facilitates the movement of essential goods. What methodologies exist for measuring access to goods, services, education, recreation, and employment; well-being; and transportation reliability for people of color and other underserved groups? What are the limitations of the current measures or methods? What data is needed to overcome those limitations? How should the Department capture transportation's ability to contribute to opportunities that help improve equity for underserved communities or individuals?

(9) What methodologies can be employed to determine how well the Department's programs comprised of engineering, enforcement, and education are affecting the safety and security of underserved people? What equitable planning methodologies can be employed by organizations with limited human and computing resources, especially in rural areas?

(10) What data or data collection methods can be employed or augmented to better capture impacts of transportation on the safety and security of underserved populations, especially when people from underserved populations are walking or biking?

(11) What assessment tools and practices are currently being used at any level of government that do not address equity or worsen disparities felt by underserved groups? What data are being used in a way that widens disparities in safety and access to transportation by traditionally underserved groups?

(12) What are the experiences of other countries in measuring transportation equity? Please share the types and granularity of data collected, analysis methods, and policy applications.

Equity Data Considerations

(13) How should the Department amend the transportation data it collects to meet equity analysis needs at the necessary spatial granularity (the geographic level of detail, i.e., national, state, local)? Since most of the Department's funding is not directed at individuals, what is the appropriate level of spatial granularity to accurately evaluate the impact of transportation investments on underserved communities?

(14) What actions can the Department take with its data to make it more useful for equity research and analysis?

(15) What data exist that track people in historically underserved groups over time (i.e., panel surveys) that may be useful to evaluating transportation equity? What metadata is useful in determining that a data collection effort is equitable (e.g., demographic profile of the researchers, method of questionnaire administration, language of questionnaire)? What methods or data would be useful in addressing non-response bias in equity data collection?

(16) Transportation plays a large role in localized pollution and negative environmental outcomes for those living near certain transportation routes and facilities. These negative environmental outcomes can have disproportionately high and adverse effects on underserved populations. How can the Department better analyze these effects, what are the data gaps, and what data sources can help address this problem? For example, what data are needed to measure the impact of vehicle electrification on the shift from mobile-source emissions to point-source (e.g., power plant) emissions on disadvantaged populations?

(17) What data are required to model equity outcomes at the individual person level? How can the Department gather this information while protecting personal privacy?

(18) What are approaches that DOT can take to ensure that individuals from underserved populations are represented in our data collection efforts?

(19) How should the Department develop a data collection framework, gather new and existing data, set data standards, and analyze and aggregate it into useful information for policymaking?

(20) How should the Department engage industry on gathering more detailed data on advanced safety features in vehicles for evaluating if technologies and their benefits are disproportionately distributed among different income and demographic groups and whether such technologies have equitable predictive performance to improve safety for all citizens?

(21) How should the Department engage industry to increase the data available to understand electric vehicles and vehicle hybridization with the intent of understanding how these technologies can benefit different income and demographic groups; and to improve the distribution and fairness in the use of these technologies for all citizens?

Transportation Workforce Data

The Department is seeking input on data and assessment tools and best practices that may be used to understand and to strengthen the pipeline for more minority, women, people of color, people with disabilities and other underserved populations to access opportunities, develop a robust network, and build a supportive environment that addresses their structural barriers to opportunities and wealth.

(22) What high-quality career pathways programs or educational pipelines have state and local governments utilized or implemented to diversify their transportation workforce? What have the results been? How were the results of the programs measured?

(23) What practices has the transportation industry taken to increase diversity and retain individuals from underserved populations within its workforce? How should the Department measure the overall impacts, especially the diversity impacts, on the workforce through Federal funding, policies, and programs?

(24) What tools and best practices might the Department utilize to augment minority and disadvantaged business programs to create pathways for jobs in the transportation industry, and jobs of the future?

(25) What type of data should we collect to measure the success of workforce programs? How do we assess if we are placing underserved populations in these job programs and into jobs; how do we track retention rates and opportunities for advancement; and how do we assess whether these are good-paying jobs?

Public Participation

How do I prepare and submit comments?

To ensure that your comments are filed correctly, please include the docket number provided in (DOT-OST-2021-0056) in your comments.

Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested”;

• Document(s) or information that the submitter would like withheld from the public docket should be marked “PROPIN”;

• Accompanied by an index listing the document(s) or information that the submitter would like the Departments to withhold. The index should include information such as numbers used to identify the relevant document(s) or information, document title and description, and relevant page numbers and/or section numbers within a document; and

• Submitted with a statement explaining the submitter's grounds for objecting to disclosing the information to the public.

DOT will treat such marked submissions as confidential under the FOIA and not include them in the public docket. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a non-confidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, the Agency will also consider comments received after that date.

How can I read the comments submitted by other people?

You may read the comments received at the address given above under WRITTEN COMMENTS. The hours of the docket are indicated above in the same location. You may also see the comments on the internet, identified by the docket number at the heading of this notice, at http://www.regulations.gov.

Please note, this RFI is a planning document and will serve as such. The RFI should not be construed as policy, a solicitation for applications, or an obligation on the part of the government.

Issued in Washington, DC, on May 13, 2021.
Peter Paul Montgomery Buttigieg,
Secretary, Department of Transportation.

[FR Doc. 2021-10436 Filed 5-24-21; 8:45 am]

BILLING CODE 4910-9X-P